DEPARTMENT OF LABOR

Employment and Training Administration

[NAFTA-03328]

Walker McDonald Mfg. Co., a/k/a National Oilwell LP, Varel International, Greenville, TX; Amended Certification Regarding Eligibility To Apply for NAFTA-Transitional Adjustment Assistance

In accordance with Section 250(A), Subchapter D, Chapter 2, Title II, of the Trade Act of 1974 (19 U.S.C. 2273), the Department of Labor issued a Certification for NAFTA Transitional Adjustment Assistance on August 13, 1999, applicable to workers of Walker McDonald Mfg. Co., a/k/a National Oilwell LP, Greenville, Texas. The notice was published in the Federal Register on September 29, 1999 (64 FR 52542).

At the request of the State agency, the Department reviewed the certification for workers of the subject firm. The workers were engaged in the production of tri-cone roller bits used by the oilfield and mining industries. New information provided by the State show that Varel International, Carrollton, Texas is the parent firm of Walker McDonald Mfg. Co., a/k/a National Oilwell LP, located in Greenville, Texas. New information also shows that workers separated from employment at the subject firm had their wages reported under a separate unemployment insurance (UI) tax account at Varel International.

The intent of the Department's certification is to include all workers of Walker McDonald Mfg. Co., a/k/a National Oilwell LP who were adversely affected by increased imports from Mexico.

Accordingly, the Department is amending the certification to properly reflect this matter.

The amended notice applicable to NAFTA-03328 is hereby issued as follows:

All workers of Walker McDonald Mfg. Co., a/k/a National Oilwell LP, Varel International, Greenville, Texas who became totally or partially separated from employment on or after July 21, 1998 through August 13, 2001 are eligible to apply for NAFTA-TAA under Section 250 of the Trade Act of 1974.

Signed at Washington, DC, this 7th day of August, 2000.
Grant D. Beale,
Program Manager, Division of Trade Adjustment Assistance.

[FR Doc. 00-20770 Filed 8-15-00; 8:45 am]

BILLING CODE 4510-30-M